DEPARTMENT OF COMMERCE

International Trade Administration

[A-570-058, A-428-845, A-533-873, A-475-838, A-580-892, A-441-801]

Certain Cold-Drawn Mechanical Tubing of Carbon and Alloy Steel From the People's Republic of China, the Federal Republic of Germany, India, Italy, the Republic of Korea, and Switzerland: Antidumping Duty Orders; and Amended Final Determinations of Sales at Less Than Fair Value for the People's Republic of China and Switzerland

AGENCY: Enforcement and Compliance, International Trade Administration, Department of Commerce.

SUMMARY: Based on affirmative final determinations by the Department of Commerce (Commerce) and the International Trade Commission (the ITC), Commerce is issuing antidumping duty orders on certain cold-drawn mechanical tubing of carbon and alloy steel (cold-drawn mechanical tubing) from the People's Republic of China (China), the Federal Republic of Germany (Germany), India, Italy, the Republic of Korea (Korea), and Switzerland. In addition, Commerce is amending its final determination of sales at less than fair value (LTFV) for China and Switzerland as a result of ministerial errors.

DATES: Applicable June 11, 2018.

FOR FURTHER INFORMATION CONTACT: Paul Stolz at (202) 482-4474 or Keith Haynes at (202) 482-5139 (China), Frances Veith at (202) 482-4295 (Germany), Susan Pulongbarit at (202) 482-4031 or Omar Qureshi at (202) 482-5307 (India), Carrie Bethea at (202) 482-1491 (Italy), Annathea Cook at (202) 482-0250 (Korea), and Laurel LaCivita at (202) 482-4243 (Switzerland), AD/CVD Operations, Enforcement and Compliance, U.S. Department of Commerce, 1401 Constitution Avenue NW, Washington, DC 20230.

SUPPLEMENTARY INFORMATION:

Background

In accordance with sections 735(a), 735(d), and 777(i)(1) of the Tariff Act of 1930, as amended (the Act), and 19 CFR 351.210(c), Commerce published its affirmative final determinations in the LTFV investigations of cold-drawn mechanical tubing from China, Germany, India, Italy, Korea, and Switzerland on April 16, 2018.¹ In addition, Commerce made affirmative determinations of critical circumstances with respect to China and Italy, in part, and with respect to Korea, pursuant to section 735(a)(3) of the Act, and 19 CFR 351.206.²

¹ See Certain Cold-Drawn Mechanical Tubing of Carbon and Alloy Steel from the People's Republic of China: Affirmative Final Determination of Sales at Less-Than-Fair Value and Final Determination of Critical Circumstances, in Part, 83 FR 16322 (April 16, 2018) (China Final); Certain Cold-Drawn Mechanical Tubing of Carbon and Alloy Steel from the Federal Republic of Germany: Final Affirmative Determination of Sales at Less Than Fair Value, 83 FR 16326 (April 16, 2018) (Germany Final); Certain Cold-Drawn Mechanical Tubing of Carbon and Alloy Steel from India: Final Affirmative Determination of Sales at Less than Fair Value, 83 FR 16296 (April 16, 2018) (India Final); Certain Cold-Drawn Mechanical Tubing of Carbon and Alloy Steel from Italy: Final Determination of Sales at Less Than Fair Value and Final Affirmative Determination of Critical Circumstances, in Part, 83 FR 16289 (April 16, 2018) (Italy Final); Certain Cold-Drawn Mechanical Tubing of Carbon and Alloy Steel from the Republic of Korea: Final Affirmative Determination of Sales at Less Than Fair Value, Final Affirmative Determination of Critical Circumstances, 83 FR 16319 (April 16, 2018) (Korea Final); Certain Cold-Drawn Mechanical Tubing of Carbon and Alloy Steel from Switzerland: Final Determination of Sales at Less Than Fair Value, 83 FR 16293 (April 16, 2018) (Switzerland Final).

² See China Final, 83 FR at 16322; Italy Final, 83 FR at 16290; and Korea Final, 83 FR at 16320.

Commerce received numerous ministerial error allegations and comments in the various investigations. A ministerial error is defined as an error in addition, subtraction, or other arithmetic function, clerical error resulting from inaccurate copying, duplication, or the like, and any other similar type of unintentional error which the Secretary considers ministerial.³

³ See section 735(e) of the Act and 19 CFR 351.224(f).

On April 17, 2018, Goodluck India Limited (Goodluck) alleged that Commerce made a ministerial error in the India Final.⁴ However, we find that the alleged error is methodological, rather than ministerial, in nature.⁵

⁴ See Goodluck's letter, “Goodluck's Final Determination Ministerial Error Comments: Antidumping Duty Investigation on Certain Cold-Drawn Mechanical Tubing of Carbon and Alloy Steel from India (A-533-873),” dated April 17, 2018 (Goodluck's Allegation).

⁵ See Memorandum, “Antidumping Duty Investigation of Certain Cold-Drawn Mechanical Tubing of Carbon and Alloy Steel from India: Ministerial Error Allegation Memorandum,” dated May 16, 2018.

On April 23, 2018, the petitioners ⁶ alleged that Commerce made certain ministerial errors in the Germany Final with respect to Benteler Steel/Tube GmbH (Benteler), Salzgitter Mannesmann Line Pipe GmbH (Salzgitter Line Pipe) and Salzgitter Mannesmann Precision GmbH (Salzgitter Precision).⁷ On April 30, 2018, Benteler submitted rebuttal comments to the petitioners' allegation.⁸ Neither Salzgitter Line Pipe nor Salzgitter Precision submitted rebuttal comments. However, we find that the alleged errors regarding our Final Determination with respect to Benteler's margin calculation and our treatment of Salzgitter Line Pipe, Salzgitter Precision, or any other Salzgitter company are methodological, rather than ministerial, in nature.⁹

⁶ ArcelorMittal Tubular Products, Michigan Seamless Tube, LLC, Plymouth Tube Co. USA, PTC Alliance Corp., Webco Industries, Inc., and Zekelman Industries, Inc. (collectively, the petitioners).

⁷ See the petitioners' letter, “Cold-Drawn Mechanical Tubing from Germany—Petitioners' Ministerial Error Allegations Regarding BENTELER Steel/Tube GmbH,” dated April 23, 2018 (Petitioners' Allegation regarding Benteler); the petitioners' letter, “Cold-Drawn Mechanical Tubing from Germany—Petitioners' Ministerial Error Allegations Regarding Salzgitter Mannesmann Line Pipe GmbH and Salzgitter Mannesmann Precision GmbH,” dated April 23, 2018 (Petitioners' Allegation regarding Salzgitter).

⁸ See Benteler's letter, “Antidumping Duty Investigation of Certain Cold-Drawn Mechanical Tubing of Carbon and Alloy Steel from Germany: Reply to Ministerial Error Comments for the Final Determination,” dated April 30, 2018 (Benteler's Rebuttal Comments).

⁹ See Memorandum, “Less-Than-Fair-Value Investigation of Certain Cold-Drawn Mechanical Tubing of Carbon and Alloy Steel from the Federal Republic of Germany: Ministerial Error Allegation Memorandum,” dated June 6, 2018.

On April 23, 2018, Benteler Rothrist AG (Benteler Rothrist) alleged that Commerce made certain ministerial errors in the Switzerland Final.¹⁰ On April 30, 2018, the petitioners submitted rebuttal comments to Benteler Rothrist's allegation.¹¹ See the “Amendment to Switzerland Final” section below for further information.

¹⁰ See Benteler Rothrist's letter, “Antidumping Duty Investigation of Certain Cold-Drawn Mechanical Tubing of Carbon and Alloy Steel from Switzerland: Ministerial Error Comments for the Final Determination,” dated April 23, 2018 (Benteler Rothrist's Allegation).

¹¹ See the petitioners' letter, “Cold-Drawn Mechanical Tubing from Switzerland—Petitioners' Response to Benteler Rothrist's Ministerial Error Allegation,” dated April 30, 2018 (Petitioners' Rebuttal Comments to Benteler Rothrist).

On April 24, 2018, the petitioners alleged that Commerce made certain ministerial errors in the China Final with respect to Zhangjiagang Huacheng Import & Export Co., Ltd. (Huacheng).¹² On April 30, 2018, Huacheng submitted rebuttal comments to the petitioners' allegation.¹³ See the “Amendment to China Final” section below for further discussion.

¹² See the petitioners' letter, “Cold-Drawn Mechanical Tubing from China—Petitioners' Ministerial Error Allegations,” dated April 24, 2018 (Petitioners' China Allegation).

¹³ See Huacheng's letter, “Cold-Drawn Mechanical Tubing of Carbon and Alloy Steel from the People's Republic of China; Reply to Petitioner's Ministerial Error Comments,” dated April 30, 2018 (Huacheng's Rebuttal Comments).

On May 31, 2018, the ITC notified Commerce of its affirmative determination that an industry in the United States is materially injured within the meaning of section 735(b)(1)(A)(i) of the Act, by reason of LTFV imports of cold-drawn mechanical tubing from China, Germany, India, Italy, Korea, and Switzerland, and of its determination that critical circumstances do not exist with respect to imports of cold-drawn mechanical tubing from China, Italy, and Korea.¹⁴

¹⁴ See letter from the ITC to the Honorable Gary Taverman, May 31, 2018 (Notification of ITC Final Determinations) (ITC Letter); see also ITC publication 4790 (May 2018), Cold-Drawn Mechanical Tubing from China, Germany, India, Italy, Korea, and Switzerland, Investigation Nos. 731-TA-1362-1367 (Final).

Scope of the Orders

The product covered by these orders is cold-drawn mechanical tubing from China, Germany, India, Italy, Korea, and Switzerland.¹⁵ For a complete description of the scope of these orders, see the Appendix to this notice.

¹⁵ At Appendix I of the India Final and the Italy Final, we inadvertently published an incorrect scope of the investigation. See Appendix 1 of this notice for a complete description of the scope of these orders.

Amendment to China Final

Commerce reviewed the record and agrees that one of the two alleged errors referenced in the petitioners' allegation constitutes a ministerial error within the meaning of section 735(e) of the Act and 19 CFR 351.224(f).¹⁶ Specifically, Commerce erroneously valued international freight for shipments of subject merchandise to a particular U.S. destination using inconsistent values.¹⁷ Additionally, we find that the second alleged error regarding the surrogate international freight rate calculation for those U.S. destinations for which no rates were available is not an error in addition, subtraction, or other arithmetic function within the meaning of 19 CFR 351.224(f).¹⁸ Pursuant to 19 CFR 351.224(e), Commerce is amending the China Final to correct the ministerial error described above by applying a single international freight surrogate value for shipments of subject merchandise to the U.S. destination in question. Based on our correction, Huacheng's estimated weighted-average dumping margin increases from 44.92 percent to 45.15 percent.¹⁹ Because Huacheng's estimated weighted-average dumping margin is the sole basis for the estimated weighted-average dumping margin for the separate rate companies which were not individually examined, the correction noted above also increases the estimated weighted-average dumping margin for the non-examined, separate rate companies from 44.92 to 45.15 percent, as reflected in the rate chart below. In addition, consistent with the China Final, we have continued to adjust the antidumping duty cash deposit rates for Huacheng and the separate-rate companies by 0.02 percent to account for appropriate export subsidies determined in the companion countervailing duty investigation.²⁰

¹⁶ See Memorandum, “Less-Than-Fair-Value Investigation of Certain Cold-Drawn Mechanical Tubing of Carbon and Alloy Steel from the People's Republic of China: Allegation of Ministerial Errors in the Final Determination,” dated concurrently with, and hereby adopted by, this notice (China Amended Final Determination Memorandum).

¹⁷ Id.

¹⁸ Id.

¹⁹ See China Amended Final Determination Memorandum.

²⁰ See China Final, 83 FR at 16324 (citing Countervailing Duty Investigation of Cold-Drawn Mechanical Tubing of Carbon and Alloy Steel from the People's Republic of China: Final Affirmative Determination, and Final Affirmative Determination of Critical Circumstances, in Part, 82 FR 58175 (December 11, 2017) and accompanying Issues and Decision Memorandum).

Amendment to Switzerland Final

Commerce reviewed the record and agrees that one of the two alleged errors referenced in Benteler Rothrist's allegation constitutes a ministerial error within the meaning of section 735(e) of the Act and 19 CFR 351.224(f).²¹ Specifically, Commerce inadvertently included certain prototype and developmental project sample sales it had found to be sold outside the ordinary course of trade in the margin calculation for Benteler Rothrist.²² Additionally, we find that the alleged ministerial error regarding our application of adverse facts available (AFA) for certain of Benteler Rothrist comparison market sales is methodological, rather than ministerial, in nature.²³ Pursuant to 19 CFR 351.224(e), Commerce is amending the Switzerland Final to reflect the correction of the ministerial error described above. Based on our correction, Benteler Rothrist's estimated weighted-average dumping margin decreased from 12.50 percent to 7.66 percent.²⁴ Because the Switzerland “all-others” rate is based in part on Benteler Rothrist's estimated weighted-average dumping margin, the correction noted above also decreases the all-others rate determined in the Switzerland Final from 13.55 percent to 9.00 percent, as reflected in the rate chart below.²⁵

²¹ See Memorandum, “Less-Than-Fair-Value Investigation of Certain Cold-Drawn Mechanical Tubing of Carbon and Alloy Steel from Switzerland: Ministerial Error Allegation Memorandum,” dated June 6, 2018.

²² Id.

²³ Id.

²⁴ Id.

²⁵ See Memorandum, “Certain Cold-Drawn Mechanical Tubing of Carbon and Alloy Steel from Switzerland: Calculation of the All-Others Rate in the Amended Final Determination,” dated June 6, 2018.

Antidumping Duty Orders

In accordance with sections 735(b)(1)(A)(i) and 735(d) of the Act, the ITC has notified Commerce of its final determination that an industry in the United States is materially injured by reason of the LTFV imports of cold-drawn mechanical tubing from China, Germany, India, Italy, Korea, and Switzerland.²⁶ Therefore, in accordance with section 735(c)(2) of the Act, we are issuing these antidumping duty orders. Because the ITC determined that imports of cold-drawn mechanical tubing from China, Germany, India, Italy, Korea, and Switzerland are materially injuring a U.S. industry, unliquidated entries of such merchandise from these countries, entered or withdrawn from warehouse for consumption, are subject to the assessment of antidumping duties.

²⁶ See ITC Letter.

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of cold-drawn mechanical tubing from China, Germany, India, Italy, Korea, and Switzerland. Antidumping duties will be assessed on unliquidated entries of cold-drawn mechanical tubing from China, Germany, India, Italy, Korea, and Switzerland entered, or withdrawn from warehouse, for consumption on or after November 22, 2017, the date of publication of the preliminary determination,²⁷ but will not include entries occurring after the expiration of the provisional measures period and before publication of the ITC's final injury determination as further described below.

²⁷ Certain Cold-Drawn Mechanical Tubing of Carbon and Alloy Steel from the People's Republic of China: Preliminary Affirmative Determination of Sales at Less-Than-Fair Value and Preliminary Affirmative Determination of Critical Circumstances, in Part, and Postponement of Final Determination, 82 FR 55574 (November 22, 2017) (China Prelim); Certain Cold-Drawn Mechanical Tubing of Carbon and Alloy Steel from the Federal Republic of Germany: Preliminary Affirmative Determination of Sales at Less Than Fair Value and Postponement of Final Determination, 82 FR 55558 (November 22, 2017) (Germany Prelim); Certain Cold-Drawn Mechanical Tubing of Carbon and Alloy Steel from India: Preliminary Affirmative Determination of Sales at Less Than Fair Value, in Part, Postponement of Final Determination, and Extension of Provisional Measures, 82 FR 55567 (November 22, 2017) (India Prelim); Certain Cold-Drawn Mechanical Tubing of Carbon and Alloy Steel from Italy: Preliminary Affirmative Determination of Sales at Less Than Fair Value, Preliminary Affirmative Determination of Critical Circumstances, in Part, Postponement of Final Determination, and Extension of Provisional Measures, 82 FR 55561 (November 22, 2017) (Italy Prelim); Certain Cold-Drawn Mechanical Tubing of Carbon and Alloy Steel from the Republic of Korea: Preliminary Affirmative Determination of Sales at Less Than Fair Value, Preliminary Affirmative Determination of Critical Circumstances, in Part, Postponement of Final Determination, and Extension of Provisional Measures, 82 FR 55541 (November 22, 2017) (Korea Prelim); and Cold-Drawn Mechanical Tubing from Switzerland: Preliminary Affirmative Determination of Sales at Less Than Fair Value and Postponement of Final Determination, and Extension of Provisional Measures, 82 FR 55571 (November 22, 2017) (Switzerland Prelim).

Suspension of Liquidation

In accordance with section 735(c)(1)(B) of the Act, we will instruct CBP to suspend liquidation on all relevant entries of cold-drawn mechanical tubing from China, Germany, India, Italy, Korea, and Switzerland, effective the date of publication of the ITC's final affirmative injury determinations. These instructions suspending liquidation will remain in effect until further notice.

We will also instruct CBP to require cash deposits equal to the amounts as indicated below. Accordingly, effective on the date of publication of the ITC's final affirmative injury determinations, CBP will require, at the same time as importers would normally deposit estimated duties on this subject merchandise, a cash deposit equal to the estimated weighted-average dumping margins listed below.²⁸ The “all others” rate applies to all producers or exporters not specifically listed, as appropriate. For the purpose of determining cash deposit rates, the estimated weighted-average dumping margins for imports of subject merchandise from China and India have been adjusted, as appropriate, for export subsidies found in the final determinations of the companion countervailing duty investigations of this merchandise imported from China and India.²⁹

²⁸ See section 736(a)(3) of the Act.

²⁹ See China Final and India Final.

Provisional Measures

Section 733(d) of the Act states that instructions issued pursuant to an affirmative preliminary determination may not remain in effect for more than four months, except where exporters representing a significant proportion of exports of the subject merchandise request Commerce to extend that four-month period to no more than six months. At the request of exporters that account for a significant proportion of cold-drawn mechanical tubing from China, Germany, India, Italy, Korea, and Switzerland, Commerce extended the four-month period to six months in each proceeding.³⁰ In the underlying investigations, Commerce published the preliminary determinations on November 22, 2017. Therefore, the extended period, beginning on the date of publication of the preliminary determination, ended on May 20, 2018. Furthermore, section 737(b) of the Act states that definitive duties are to begin on the date of publication of the ITC's final affirmative injury determination.

³⁰ See China Prelim, Germany Prelim, India Prelim, Italy Prelim, Korea Prelim, and Switzerland Prelim.

Therefore, in accordance with section 733(d) of the Act and our practice,³¹ we will instruct CBP to terminate the suspension of liquidation and to liquidate, without regard to antidumping duties, unliquidated entries of cold-drawn mechanical tubing from China, Germany, India, Italy, Korea, and Switzerland entered, or withdrawn from warehouse, for consumption on or after May 21, 2018, until and through the day preceding the date of publication of the ITC's final affirmative injury determinations in the Federal Register. Suspension of liquidation and the collection of cash deposits will resume on the date of publication of the ITC's final determinations in the Federal Register.

³¹ See, e.g., Certain Corrosion-Resistant Steel Products from India, Italy, the People's Republic of China, the Republic of Korea and Taiwan: Amended Final Affirmative Antidumping Determination for India and Taiwan, and Antidumping Duty Orders, 81 FR 48390 (July 25, 2016).

Critical Circumstances

With regard to the ITC's negative critical circumstances determination on imports of cold-drawn mechanical tubing from China, Italy, and Korea discussed above, we will instruct CBP to lift suspension and to refund any cash deposits made to secure the payment of estimated antidumping duties with respect to entries of cold-drawn mechanical tubing from China, Italy, and Korea, entered, or withdrawn from warehouse, for consumption on or after August 24, 2017 (i.e., 90 days prior to the date of publication of the preliminary determinations), but before November 22, 2018 (i.e., the date of publication of the preliminary determination for each of these investigations).

Estimated Weighted-Average Dumping Margins

The estimated weighted-average dumping margins are as follows:

China
Producer | Exporter | Weighted- average margin (percent) | Cash deposit rate (percent) ³²
Jiangsu Huacheng Industry Pipe Making Corporation, and Zhangjiagang Salem Fine Tubing Co., Ltd | Zhangjiagang Huacheng Import & Export Co., Ltd ³³ | 45.15 | 45.13
Anji Pengda Steel Pipe Co., Ltd | Anji Pengda Steel Pipe Co., Ltd | 45.15 | 45.13
Changshu Fushilai Steel Pipe Co., Ltd | Changshu Fushilai Steel Pipe Co., Ltd | 45.15 | 45.13
Changshu Special Shaped Steel Tube Co., Ltd | Changshu Special Shaped Steel Tube Co., Ltd | 45.15 | 45.13
Jiangsu Liwan Precision Tube Manufacturing Co., Ltd | Suzhou Foster International Co., Ltd | 45.15 | 45.13
Zhangjiagang Precision Tube Manufacturing Co., Ltd. (Zhangjiangang Tube) | Suzhou Foster International Co., Ltd | 45.15 | 45.13
Wuxi Dajin High-Precision Cold-Drawn Steel Tube Co., Ltd | Wuxi Huijin International Trade Co., Ltd | 45.15 | 45.13
Zhangjiagang Shengdingyuan Pipe-Making Co., Ltd | Zhangjiagang Shengdingyuan Pipe-Making Co., Ltd | 45.15 | 45.13
Zhejiang Minghe Steel Pipe Co., Ltd | Zhejiang Minghe Steel Pipe Co., Ltd | 45.15 | 45.13
Zhejiang Dingxin Steel Tube Manufacturing Co., Ltd | Zhejiang Dingxin Steel Tube Manufacturing Co., Ltd | 45.15 | 45.13
China-Wide Entity ³⁴ |  | * 186.89 | 186.89
* (Based on AFA).

Germany
Exporter or producer | Weighted- average margin (percent)
BENTELER Steel/Tube GmbH/BENTELER Distribution International GmbH ³⁵ | 3.11
Mubea Fahrwerksfedern GmbH | * 209.06
Salzgitter Mannesmann Line Pipe GmbH | * 209.06
All-Others | 3.11
* (AFA).

India
Exporter or producer | Weighted- average margin (percent) | Cash-deposit rate (percent)
Goodluck India Limited | * 33.80 | 33.70
Tube Products of India, Ltd. a unit of Tube Investments of India Limited (collectively, TPI) | 8.26 | 5.87
All-Others | 8.26 | 5.87
* (AFA).

Italy
Exporter or producer | Weighted- average margin (percent)
Dalmine, S.p.A | * 68.95
Metalfer, S.p.A | * 68.95
All-Others | 47.87
* (AFA).

Korea
Exporter or producer | Weighted- average margin (percent)
Sang Shin Ind. Co., Ltd | * 48.00
Yulchon Co., Ltd | * 48.00
All-Others | 30.67
* (AFA).

Switzerland
Exporter or producer | Weighted- average margin (percent)
Benteler Rothrist AG | 7.66
Mubea Prazisionsstahlrohr AG | 30.48
All-Others | 9.00

This notice constitutes the antidumping duty orders with respect to cold-drawn mechanical tubing from China, Germany, India, Italy, Korea, and Switzerland pursuant to section 736(a) of the Act. Interested parties can find a list of antidumping duty orders currently in effect at http://enforcement.trade.gov/stats/iastats1.html.

³² Commerce normally adjusts antidumping duty cash deposit rates to offset for certain subsidies found in companion countervailing duty proceedings. Accordingly, the rate charts for China and India, below, include an additional column to indicate the applicable cash deposit rates adjusted for certain subsidies in the companion countervailing duty investigations. As there were no companion countervailing duty investigations with respect to Germany, Italy, Korea, and Switzerland, the rate charts listed below with respect to those countries include only a column for the weighted-average margin determined in those investigations.

³³ In the China Prelim, Commerce found that Zhangjiagang Huacheng Import & Export Co., Ltd., Jiangsu Huacheng Industry Pipe Making Corporation, and Zhangjiagang Salem Fine Tubing Co., Ltd. are a single entity and, because there were no changes to the facts which supported that decision since that determination was made, we continue to find that these companies are part of a single entity for this order; see China Final.

³⁴ Commerce notes that Hongyi Steel Pipe Co., Ltd. is a part of the China-wide entity.

³⁵ In the Germany Prelim, Commerce found that BENTELER Steel/Tube GmbH and BENTELER Distribution International GmbH are a single entity and, because there were no changes to the facts which supported that decision since that determination was made, we continue to find that these companies are part of a single entity for this order; see Germany Final.

These amended final determinations and antidumping duty orders are published in accordance with sections 735(e) and 736(a) of the Act and 19 CFR 351.224(e) and 351.211(b).

Dated: June 6, 2018.
Gary Taverman,
Deputy Assistant Secretary for Antidumping and Countervailing Duty Operations, performing the non-exclusive functions and duties of the Assistant Secretary for Enforcement and Compliance.

Appendix

Scope of the Orders

The products covered by these orders are cold-drawn mechanical tubing of carbon and alloy steel (cold-drawn mechanical tubing) of circular cross-section, 304.8 mm or more in length, in actual outside diameters less than 331mm, and regardless of wall thickness, surface finish, end finish or industry specification. The subject cold-drawn mechanical tubing is a tubular product with a circular cross-sectional shape that has been cold-drawn or otherwise cold-finished after the initial tube formation in a manner that involves a change in the diameter or wall thickness of the tubing, or both. The subject cold-drawn mechanical tubing may be produced from either welded (e.g., electric resistance welded, continuous welded, etc.) or seamless (e.g., pierced, pilgered or extruded, etc.) carbon or alloy steel tubular products. It may also be heat treated after cold working. Such heat treatments may include, but are not limited to, annealing, normalizing, quenching and tempering, stress relieving or finish annealing. Typical cold-drawing methods for subject merchandise include, but are not limited to, drawing over mandrel, rod drawing, plug drawing, sink drawing and similar processes that involve reducing the outside diameter of the tubing with a die or similar device, whether or not controlling the inside diameter of the tubing with an internal support device such as a mandrel, rod, plug or similar device. Other cold-finishing operations that may be used to produce subject merchandise include cold-rolling and cold-sizing the tubing.

Subject cold-drawn mechanical tubing is typically certified to meet industry specifications for cold-drawn tubing including but not limited to:

(1) American Society for Testing and Materials (ASTM) or American Society of Mechanical Engineers (ASME) specifications ASTM A-512, ASTM A-513 Type 3 (ASME SA513 Type 3), ASTM A-513 Type 4 (ASME SA513 Type 4), ASTM A-513 Type 5 (ASME SA513 Type 5), ASTM A-513 Type 6 (ASME SA513 Type 6), ASTM A-519 (cold-finished);

(2) SAE International (Society of Automotive Engineers) specifications SAE J524, SAE J525, SAE J2833, SAE J2614, SAE J2467, SAE J2435, SAE J2613;

(3) Aerospace Material Specification (AMS) AMS T-6736 (AMS 6736), AMS 6371, AMS 5050, AMS 5075, AMS 5062, AMS 6360, AMS 6361, AMS 6362, AMS 6371, AMS 6372, AMS 6374, AMS 6381, AMS 6415;

(4) United States Military Standards (MIL) MIL-T-5066 and MIL-T-6736;

(5) foreign standards equivalent to one of the previously listed ASTM, ASME, SAE, AMS or MIL specifications including but not limited to:

(a) German Institute for Standardization (DIN) specifications DIN 2391-2, DIN 2393-2, DIN 2394-2);

(b) European Standards (EN) EN 10305-1, EN 10305-2, EN 10305-4, EN 10305-6 and European national variations on those standards (e.g., British Standard (BS EN), Irish Standard (IS EN) and German Standard (DIN EN) variations, etc.);

(c) Japanese Industrial Standard (JIS) JIS G 3441 and JIS G 3445; and

(6) proprietary standards that are based on one of the above-listed standards.

The subject cold-drawn mechanical tubing may also be dual or multiple certified to more than one standard. Pipe that is multiple certified as cold-drawn mechanical tubing and to other specifications not covered by this scope, is also covered by the scope of these order when it meets the physical description set forth above.

Steel products included in the scope of these orders are products in which: (1) Iron predominates, by weight, over each of the other contained elements; and (2) the carbon content is 2 percent or less by weight.

For purposes of this scope, the place of cold-drawing determines the country of origin of the subject merchandise. Subject merchandise that is subject to minor working in a third country that occurs after drawing in one of the subject countries including, but not limited to, heat treatment, cutting to length, straightening, nondestruction testing, deburring or chamfering, remains within the scope of these orders.

All products that meet the written physical description are within the scope of these orders unless specifically excluded or covered by the scope of an existing order. Merchandise that meets the physical description of cold-drawn mechanical tubing above is within the scope of these orders even if it is also dual or multiple certified to an otherwise excluded specification listed below. The following products are outside of, and/or specifically excluded from, the scope of these orders:

(1) Cold-drawn stainless steel tubing, containing 10.5 percent or more of chromium by weight and not more than 1.2 percent of carbon by weight;

(2) products certified to one or more of the ASTM, ASME or American Petroleum Institute (API) specifications listed below:

• ASTM A-53;

• ASTM A-106;

• ASTM A-179 (ASME SA 179);

• ASTM A-192 (ASME SA 192);

• ASTM A-209 (ASME SA 209);

• ASTM A-210 (ASME SA 210);

• ASTM A-213 (ASME SA 213);

• ASTM A-334 (ASME SA 334);

• ASTM A-423 (ASME SA 423);

• ASTM A-498;

• ASTM A-496 (ASME SA 496);

• ASTM A-199;

• ASTM A-500;

• ASTM A-556;

• ASTM A-565;

• API 5L; and

• API 5CT

except that any cold-drawn tubing product certified to one of the above excluded specifications will not be excluded from the scope if it is also dual- or multiple-certified to any other specification that otherwise would fall within the scope of these orders.

The products subject to these orders are currently classified in the Harmonized Tariff Schedule of the United States (HTSUS) under item numbers: 7304.31.3000, 7304.31.6050, 7304.51.1000, 7304.51.5005, 7304.51.5060, 7306.30.5015, 7306.30.5020, 7306.50.5030. Subject merchandise may also enter under numbers 7306.30.1000 and 7306.50.1000. The HTSUS subheadings above are provided for convenience and customs purposes only. The written description of the scope of these orders are dispositive.

[FR Doc. 2018-12593 Filed 6-8-18; 8:45 am]

BILLING CODE 3510-DS-P